DEPARTMENT OF ENERGY

Federal Energy Regulatory Commission

[Project No. 14227-000]

Nevada Hydro Company, Inc.; Notice of Intent To File License Application, Filing of Draft License Application, and Request To Waive Pre-Filing Requirements

a. Type of Filing: Notice of Intent to File License Application and Request to Waive Pre-Filing Requirements.

b. Project No.: 14227-000.

c. Dated Filed: June 1, 2017.

d. Submitted By: Nevada Hydro Company, Inc. (Nevada Hydro).

e. Name of Project: Lake Elsinore Advanced Pumped Storage (LEAPS) Project.

f. Location: On Lake Elsinore and San Juan Creek near the town of Lake Elsinore in Riverside and San Diego counties, California. The project would occupy about 845 acres of federal land.

g. Filed Pursuant to: 18 CFR part 5 of the Commission's Regulations.

h. Applicant Contact: Rexford Wait, Nevada Hydro Company, Inc., 2416 Cades Way Vista, California (760) 599-1815.

i. FERC Contact: Jim Fargo at (202) 502-6095 or email at james.fargo@ferc.gov.

j. On June 1, 2017, Nevada Hydro filed a request that the Commission waive certain of the pre-filing consultation requirements of Part 5 of the Commission's regulations for the proposed LEAPS Project to include: pre-filing scoping; ¹ comments and information or study requests; the preparation of and comments on a proposed study plan; resolution of disputes over studies; ² and notice of the applicant's intent to file a draft license application.³ Nevada Hydro's justification for the waivers is that a Final Environmental Impact Statement, prepared by Commission staff, was issued in 2007 for essentially the same project proposal under P-11858 and the consultation on the current project proposal that has already occurred meets the intent of the Commission's pre-filing consultation requirements.

¹ 18 CFR 5.8 (2017).

² 18 CFR 5.9, 5.11-5.15 (2017).

³ 18 CFR 5.16 (2017).

With this notice we are soliciting comments on Nevada Hydro's notice of intent and request to waive pre-filing requirements. All comments should be sent to the address in paragraph l below.

k. The NOI, waiver request, and associated filings are available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

Register online at http://www.ferc.gov/docs-filing/esubscription.asp to be notified via email of new filing and issuances related to this or other pending projects. For assistance, contact FERC Online Support.

l. The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE., Washington, DC 20426. The first page of any filing should include docket number P-14227-000.

All filings with the Commission must bear the appropriate heading: Comments on NOI. Any individual or entity interested in submitting NOI comments must do so by September 22, 2017.

Dated: August 23, 2017.
Kimberly D. Bose,
Secretary.

[FR Doc. 2017-18235 Filed 8-28-17; 8:45 am]

BILLING CODE 6717-01-P